DEPARTMENT OF THE INTERIOR

Draft General Management Plan/Environmental Impact Statement, Ebey's Landing National Historical Reserve, Washington

AGENCY: National Park Service.

ACTION: Notice of Intent to prepare an Environmental Impact Statement.

SUMMARY: The National Park Service will prepare a General Management Plan/Environmental Impact Statement (GMP/EIS) for Ebey's Landing National Historical Reserve.

A General Management Plan sets forth the basic management philosophy for a unit of the National Park System and provides the strategies for addressing issues and achieving identified management objectives for that unit. In the GMP/EIS and its accompanying public review process, the National Park Service will formulate and evaluate the environmental impacts of a range of alternatives to address distinct management strategies for the park, including resource protection and visitor use. The plan will guide the management of natural and cultural resources and visitor use of those resources for the next 15-20 years. Development concept plans for selected facilities may be included with the GMP.

Scoping is the term given to the process by which the scope of issues to be addressed in the GMP/EIS is identified. Representatives of Federal, State and local agencies, American Indian tribes, private organizations and individuals from the general public who may be interested in or affected by the proposed GMP/EIS are invited to participate in the scoping process by responding to this Notice with written comments.

All comments received will become part of the public record and copies of comments, including any names and home addresses of respondents, may be released for public inspection. Individual respondents may request that their home addresses be withheld from the public record, which will be honored to the extent allowable by law. Requests to withhold names and/or addresses must be stated prominently at the beginning of the comments. Anonymous comments will not be considered. Submissions from organizations or businesses, and from individuals identifying themselves as representatives or officials of organizations or businesses, will be made available for public inspection in their entirety.

Among the major issues likely to be addressed in the Ebey's Landing National Historical Reserve GMP/EIS are (1) resource information and protection, including a land protection plan, (2) cooperation with associated partners and interests, (3) interpretation, (4) visitor use and services, and (5) park administration. A full range of alternatives, including “no action”, will be considered in the GMP/EIS to address these and other issues that may emerge during the planning process. The draft GMP/EIS is expected to be available for public review by the spring of 2001.

Because the responsibility for approving the GMP/EIS has been delegated to the National Park Service, the EIS is a “delegated” EIS. The responsible official is John J. Reynolds, Regional Director, Pacific West Region, National Park Service.

DATES: Public scoping meetings will be held on Tuesday, June 20, 2000, 6:30-8:30 p.m. at the REI Seattle Flagship Store, Second Floor Meeting Room, 222 Yale Avenue North, Seattle, WA, and Wednesday, June 21, 2000, 2:30-5:00 p.m. and again at 7:00-9:00 p.m., at the Coupeville Recreation Hall, 901 NW Alexander Street, Coupeville, WA. Written comments on the scope of the issues and alternatives to be analyzed in the GMP/EIS should be received no later than August 15, 2000.

ADDRESSES: Written comments concerning the GMP/EIS should be sent to Reserve Manager, Ebey's Landing National Historical Reserve, P.O. Box 774, Coupeville, WA 98239-0774, or e-mail to ebla_administration@nps.gov.

FOR FURTHER INFORMATION CONTACT: Reserve Manager, Ebey's Landing National Historical Reserve, at (360) 678-6084, or NPS Reserve Liaison at (206) 220-4138.

Dated: May 11, 2000.
William C. Walters,
Deputy Regional Director, Pacific West Region.

[FR Doc. 00-12704 Filed 5-19-00; 8:45 am]

BILLING CODE 4310-70-P